ENVIRONMENTAL PROTECTION AGENCY

[FRL-7047-1]

Agency Information Collection Activities; Submission for OMB Review; Comment Request; Assessment of EPA Compliance Assistance Projects

AGENCY: Environmental Protection Agency (EPA).

ACTION: Notice.

SUMMARY: In compliance with the Paperwork Reduction Act (44 U.S.C. 3501 et seq.), this notice announces that EPA is planning to submit the following proposed Information Collection Request (ICR) to the Office of Management and Budget (MB) for renewal: Assessment of EPA Compliance Assistance Projects 1860.01. The ICR describes the nature of the information collection, the expected burden and cost to collect the information, and the actual collection instruments. Before submitting the ICR to OMB for review and approval, EPA is soliciting comments on specific aspects of the proposed information collection as described below.

DATES: Comments must be submitted on or before October 1, 2001.

ADDRESSES: Send comments, referencing EPA ICR No. 1860.01 to the following addresses: Lynn Vendinello, EPA MC 2222A, 1200 Pennsylvania Avenue, NW., Washington, DC 20460; and to Office of information and Regulatory Affairs, Office of Management and Budget (OMB), Attention: Desk Officer for EPA, 725 17th Street, NW., Washington, DC 20503.

FOR FURTHER INFORMATION CONTACT: For a copy of the ICR or technical questions contact Ms. Lynn Vendinello at EPA by phone at (202) 564-7066, by facsimile (202) 564-0031, or by email at vendinello.lynn@epa.gov.

SUPPLEMENTARY INFORMATION: Affected Entities: Entities potentially affected by this action are businesses and other members of the regulated community, technical assistance providers that receive or access EPA compliance assistance tools, regulating agencies, and state/local committees that are recipients of required compliance reports. Technical assistance providers are comprised of such groups as: state pollution prevention programs, state small business assistance programs, small business development centers. The request for information from these affected entities will be voluntary.

Title: Information Collection Request for Assessment of EPA Compliance Assistance Projects, EPA ICR Number 1860.01.

Abstract: The Environmental Protection Agency (EPA) is seeking reapproval for a three year generic clearance from Office of Management and Budget (OMB) to determine how well EPA compliance assistance tools and services meet customers needs and to determine the relevant outcomes. This will be a voluntary collection of information to gauge customer satisfaction with the compliance assistance projects, and measure any resulting changes in awareness and understanding, and in limited cases behavioral change and environmental and human health impacts. EPA proposes to use assessment surveys to provide the Agency with feedback on the compliance assistance documents, onsite visits, telephone assistance, Web sites, and compliance assistance seminars and workshops delivered by Headquarters and Regional compliance assistance programs to the regulated community This feedback will provide EPA with the necessary information for improving the quality and delivery of compliance assistance tools and services.

This ICR will only provide anecdotal data for the purpose of informing EPA of the outcomes of compliance assistance tools, and customer satisfaction with those tools. All assessments undertaken under this ICR will adhere to certain conditions to ensure that data is collected and used appropriately. The information collection is voluntary, and will be limited to non-sensitive data concerning the quality of compliance assistance activities. The data resulting from this ICR's assessment activities will not be treated as statistical and will not be used to make broad generalizations to the overall population. The Office of Compliance (OC) attempts to perform such evaluations will be undertaken under a separate ICR so that the public is allowed adequate public comment period on our proposed methodology. This process does not involve fact-finding for the purposes of regulatory development or enforcement.

By seeking a generic clearance of assistance assessments, EPA will have the flexibility it requires to expeditiously gather the views of EPA customers to determine how well the bulk of EPA compliance assistance tools and services meet customers needs and how to improve them. In FY 2000 alone, EPA conducted over 1300 workshops and trainings, over 2700 on-site visits and developed 140 compliance assistance tools. The generic clearance will facilitate the coordinated review and approval of surveys that solicit opinions from EPA customers on a voluntary basis. Every effort will be made to improve response rates to assessment surveys, and maximize the efficiency of data collection.

To ensure the proper use of the data from the surveys, OC will place the following conditions on the way the ICR is used:

• After compliance assistance is delivered, EPA will follow up on the quality of the assistance and the associated outcomes. During the compliance assistance activity, EPA should communicate how it intends to follow-up (e.g., phone, letter, email) and when.

• True behavioral changes will only be considered when they can be directly measured through on-site revisits, self-certifications or other direct observations. Behavioral changes expressed through surveys, training evaluations, and Internet questionnaires will be considered as indications of behavioral change.

• No use of comment cards as they often have low response rates.

• To ensure high response rates, all follow-up mail/email surveys must use the Dillman Tailored Design Method. Staff using phone surveys can also send out a postcard letting attendees know that EPA will be calling.

Compliance assistance activity | Allowed survey method (in order of preference) | Measure
Phone Calls/Hotlines | As part of assistance call | Awareness, Understanding, Customer satisfaction.
| Follow-up call | Awareness and understanding.
| Mail/email follow-up survey | Customer satisfaction.
Workshops/Trainings | Pre/post test | Awareness, Understanding.
| On-Site Post Workshop/Training Evaluation | Awareness, Understanding, Customer satisfaction.
| Phone survey (if fewer than 50 participants)
| Mail/email follow up (if more than 50 participants)
Web Sites | Online survey (with promotion of the survey via email) | Awareness, Understanding, Customer satisfaction.
Tools (e.g., manuals) | Mail/email survey | Awareness Understanding, Customer satisfaction.
Onsite visits | Onsite revisits | Awareness, Understanding, Behavioral change, Environmental and human health improvements, Customer satisfaction.
| Phone survey
| Mail/email survey

EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology (e.g., permitting electronic submission of responses).

Burden Statement: Burden means the total time, effort, or financial resources expended by persons to generate, maintain, retain, disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

It is estimated that approximately 24,823 entities may voluntarily complete and return a compliance assistance activity or tool assessment survey on an annual basis. EPA estimates that participating entities may need to spend between five to twenty minutes to complete either the compliance assistance product, seminar/workshop; onsite visit; telephone assistance/hotline; or Internet web site assessment survey. EPA estimates 3,564 hours annually or 8.64 minutes per respondent may be spent to provide EPA with the data. This burden hour estimate translates to a cost of $9.89 per facility that voluntarily completes the survey and a total cost to the regulated community of $733,861 over the three years covered by the ICR. The costs were calculated based on $32.68 per hour employment expense rate, plus a $110 overhead for a total labor cost of $68.63 (based on labor rates obtained form the United States of Commerce, Bureau of Labor Statistics, May 2001, Employer Costs for Employment Compensation, Table 10: White Collar, Professional and Technical).

Respondents/Affected Entities: 74,470.

Estimated Number of Respondents: 74,470.

Frequency of Response: one time.

Estimated Total Annual Hour Burden: 3,564 hours.

Estimated Total Annualized Capital, O&M Cost Burden: $244,620.

Send comments on the Agency's need for this information, the accuracy of the provided burden estimates, and any suggested methods for minimizing respondent burden, including through the use of automated collection techniques to the addresses listed above. Please refer to EPA ICR No. 1860.01 in any correspondence.

Dated: August 23, 2001.
Michael M. Stahl,
Director, Office of Compliance.

[FR Doc. 01-22019 Filed 8-30-01; 8:45 am]

BILLING CODE 6560-50-M